DEPARTMENT OF TRANSPORTATION

Surface Transportation Board

[STB Finance Docket No. 35226]

Buckingham Branch Railroad Company—Change in Operator Exemption—Rail Line in Nottoway, Lunenburg, Charlotte and Mecklenberg Counties, VA

Buckingham Branch Railroad Company (BB), a Class III rail carrier, has filed a verified notice of exemption under 49 CFR 1150.41 to change operators from Virginia Southern Railroad Division, Northern Carolina & Virginia Railroad, Inc. (NCVA) to BB over 56.9 miles of rail line (the Keysville Line) owned by Norfolk Southern Railway Company (NSR). The line extends between milepost F84.8, near Burkeville, and milepost F65.8, near Keysville, and between milepost D0.0, near Keysville, and milepost D37.9, near Clarksville, in Nottoway, Lunenburg, Charlotte and Mecklenberg Counties, VA.

NSR and BB have reached an agreement under which BB will lease and operate the Keysville Line. BB will accept transfer and/or assignment of NCVA's common carrier obligations.

BB certifies that its projected annual revenue as a result of this transaction will not result in the creation of a Class II or Class I rail carrier. However, because its projected annual revenues will exceed $5 million, BB also certifies that it has complied with the notice requirements of 49 CFR 1150.42(e).

The transaction is expected to be consummated on or after May 23, 2009, 60 days after BB's certification of the notice requirements of section 1150.42(e).

If the notice contains false or misleading information, the exemption is void ab initio. Petitions to revoke the exemption under 49 U.S.C. 10502(d) may be filed at any time. The filing of a petition to revoke does not automatically stay the transaction. Petitions for stay must be filed no later than May 15, 2009 (at least 7 days before the exemption becomes effective).

Pursuant to the Consolidated Appropriations Act, 2008, Public Law No. 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

An original and 10 copies of all pleadings, referring to STB Finance Docket No. 35226, must be filed with the Surface Transportation Board, 395 E Street, SW., Washington, DC 20423-0001. In addition, a copy of each pleading must be served on Keith G. O'Brien, Baker and Miller PLLC, 2401 Pennsylvania Avenue, NW., Suite 300, Washington, DC 20037.

Board decisions and notices are available on our Web site at www.stb.dot.gov.

Decided: May 4, 2009.
By the Board,
Rachel D. Campbell,
Director, Office of Proceedings
Kulunie L. Cannon,
Clearance Clerk.

[FR Doc. E9-10550 Filed 5-6-09; 8:45 am]

BILLING CODE 4915-01-P